DEPARTMENT OF COMMERCE

National Institute of Standards and Technology

Announcement of Meeting to Explore Feasibility of Establishing a NIST/Industry Consortium on Neutron Measurements for Soft Materials Manufacturing

AGENCY: National Institute of Standards and Technology, Commerce.

ACTION: Notice of public meeting.

SUMMARY: The National Institute of Standards and Technology (NIST) invites interested parties to attend a pre-consortium meeting on June 2-3, 2011 to be held on the NIST campus. The goal of the one-day meeting is to evaluate industry interest in creating a NIST/industry consortium focused on advanced neutron-based probes for soft materials. The goals of such a consortium would include the development of neutron-based measurements that would address critical needs for manufacturers of soft materials such as polymers, complex fluids, and protein-based materials. Advances in neutron-based measurement science are anticipated through the development of sample environments that closely mimic manufacturing processes, measurement methods to probe and analyze complex mixtures, and data analysis models that support routine measurements with high information content. The consortium would be administered by NIST. Consortium research and development would be conducted by NIST staff members along with at least one technical representative from each participating member company. CRADA contributions for participation in the consortium would be on the order of Twenty Thousand ($20,000) per year. The initial term of the consortium is intended to be three years.

DATES: The meeting will take place on June 2-3, 2011 from 8 a.m. to 5 p.m.

ADDRESSES: The meeting will be held on the NIST Gaithersburg campus, 100 Bureau Drive, Gaithersburg, MD 20899. Please note admittance instructions under the SUPPLEMENTARY INFORMATION section of this notice.

FOR FURTHER INFORMATION CONTACT: Ronald L. Jones, National Institute of Standards and Technology, 100 Bureau Drive, Stop 8514, Gaithersburg, MD 20899-8514, USA; Telephone: (301) 975-4624; Fax (301) 975-3928; E-mail: ronald.jones@nist.gov.

SUPPLEMENTARY INFORMATION: All visitors to the National Institute of Standards and Technology site will have to pre-register to be admitted. Anyone wishing to attend this meeting must pre-register by C.O.B May 27, 2011 in order to attend. Please submit your name, e-mail address, and phone number to Teresa Vicente, and you will be provided instructions for admittance. Non-U.S. citizens must also submit their country of citizenship, title, employer/sponsor, and address. Teresa Vicente's e-mail address teresa.vicente@nist.gov and their phone number is (301) 975-3883.

Dated: April 6, 2011.
Charles H. Romine,
Acting Associate Director for Laboratory Programs.

[FR Doc. 2011-9009 Filed 4-12-11; 8:45 am]

BILLING CODE 3510-13-P